DEPARTMENT OF TRANSPORTATION

Office of the Secretary

Aviation Proceedings, Agreements Filed the Week Ending May 2, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0151.

Date Filed: April 28, 2008.

Parties: Members of the International Air Transport Association.

Subject:

Mail Vote 565.

TC3 South West Pacific-South Asian Subcontinent

Passenger Adopting/Revalidating Resolution

(Memo 1191)

Mail Vote 565

TC3 South West Pacific-South East Asia

Passenger Adopting/Revalidating Resolution

(Memo 1192)

Mail Vote 565

South West Pacific-Japan, Korea (except to/from Japan) (except Korea (Rep. of)-American Samoa)

Passenger Adopting/Revalidating Resolution

(Memo 1193)

Intended effective date: 1 June 2008.

Renee V. Wright,
Program Manager, Docket Operations, Federal Register Liaison.

[FR Doc. E8-13988 Filed 6-19-08; 8:45 am]

BILLING CODE 4910-9X-P